DEPARTMENT OF HEALTH AND HUMAN SERVICES

Food and Drug Administration

21 CFR Part 101

Food Labeling

CFR Correction

In Title 21 of the Code of Federal Regulations, parts 100 to 169, revised as of April 1, 2016, on pages 43 and 44, in § 101.9, paragraphs (j)(1)(i), (2) introductory text, (3) introductory text, and the first sentence of (j)(4) are revised to read as follows. And, on page 50, the effective date note at the end of § 101.9 is removed.

§ 101.9 Nutrition labeling of food.

* * * * *

(j) * * *

(1)(i) Food offered for sale by a person who makes direct sales to consumers (e.g., a retailer) who has annual gross sales made or business done in sales to consumers that is not more than $500,000 or has annual gross sales made or business done in sales of food to consumers of not more than $50,000, Provided, That the food bears no nutrition claims or other nutrition information in any context on the label or in labeling or advertising. Claims or other nutrition information subject the food to the provisions of this section, § 101.10, or § 101.11, as applicable.

* * * * *

(2) Except as provided in § 101.11, food products that are:

* * * * *

(3) Except as provided in § 101.11, food products that are:

* * * * *

(4) Except as provided in § 101.11, foods that contain insignificant amounts of all of the nutrients and food components required to be included in the declaration of nutrition information under paragraph (c) of this section, Provided, That the food bears no nutrition claims or other nutrition information in any context on the label or in labeling or advertising. * * *

* * * * *

[FR Doc. 2016-28363 Filed 11-22-16; 8:45 am]

BILLING CODE 1301-00-D